DEPARTMENT OF DEFENSE

Department of the Air Force

U.S. Air Force Reminder Re: United Launch Alliance (ULA) Consent Order and Recent Change in Department of Defense (DOD) Compliance Officer

AGENCY: Principal DOD Space Advisor Staff, Department of Defense (DOD).

ACTION: Publicize Consent Order, Notify Public of New DOD Compliance Officer and Provide Points of Contact for Information and/or Comment Submittal.

SUMMARY: This is not a notice of solicitation issuance. The Director, Principal DOD Space Advisor Staff, as the Compliance Officer under the Federal Trade Commission (FTC) Decision and Order (hereinafter referred to as the “Consent Order”), in the Matter of Lockheed Martin Corporation (LMC), the Boeing Company (Boeing), and United Launch Alliance, L.L.C. (ULA) (hereinafter referred to as the “Respondents”), Docket No. C-4188, dated May 1, 2007, is posting this notice to publicize the Consent Order, notify the Public of a change in DOD Compliance Officer personnel and to provide points of contact for further information or for comment submittal.

The Consent Order: The Consent Order requires that with regard to covered Government programs, (1) ULA afford all space vehicle manufacturers non-discriminatory treatment for launch services that ULA may provide, and that (2) LMC and Boeing, as space vehicle manufacturers, consider all qualified launch service providers on a non-discriminatory basis. Covered programs are Government programs which are delivered in orbit and utilize medium-to-heavy launch services. The Consent Order also requires firewalls to prevent information from a space vehicle provider being shared by ULA with its Boeing or LMC parent company. Similarly, Boeing and LMC must have firewalls to ensure that other launch service information is not shared with ULA. The Consent Order also requires that the Department of Defense appoint a Compliance Officer to oversee compliance with the Consent Order by all three Respondents. The Consent Order remains in full effect through 30 April 2017. The complete text of the ULA Consent Order and supplementary information is located on the following FTC Web site: http://www.ftc.gov/enforcement/cases-proceedings/0510165/lockheed-martin-corporation-boeing-company-united-launch.

DOD Compliance Officer: The DOD Compliance Officer is the Director, Principal DOD Space Advisor Staff. The duties of this position are now conducted by Mr. Winston A. Beauchamp.

Points of Contact for Further Information or Inquiries: For further information and inquires, or to request a meeting with the DOD Compliance Officer or her Government Compliance Team, interested parties should contact either Mrs. Sarah Beth Cliatt (Compliance Division Chief), Tel: 719-556-2268; or Colonel Marc Berkstresser (Deputy Compliance Division Chief), Tel: 703-693-3634.

Henry Williams,
Acting Air Force Federal Register Liaison Officer.

[FR Doc. 2016-02544 Filed 2-8-16; 8:45 am]

BILLING CODE 5001-10-P